DEPARTMENT OF TRANSPORTATION

Federal Transit Administration

Fiscal Year 2013 Public Transportation on Indian Reservations Program Project Selections

AGENCY: Federal Transit Administration, DOT.

ACTION: Tribal Transit Program Announcement of Project Selections.

SUMMARY: The US. Department of Transportation's (DOT) Federal Transit Administration (FTA) announces the selection of projects with Fiscal Year (FY) 2013 appropriations for the Tribal Transit Program (TTP). On May 9, 2013 FTA published a Federal Register Notice (78 FR 27284) announcing the availability of the funding for the program. The Moving Ahead for Progress in the 21st Century Act (MAP-21) authorizes approximately $5 million for federally recognized Indian Tribes or Alaska Native villages, groups, or communities as identified by the Bureau of Indian Affairs (BIA) in the U.S. Department of the Interior for public transportation. Combined with available funding from prior years, FTA is allocating a total of approximately $5.05 million to selected projects in this notice. The TTP supports capital projects, operating costs and planning activities that are eligible under the Formula Grants for Rural Areas Program (Section 5311). FTA funds may only be used for eligible purposes defined under 49 U.S.C 5311 and described in the proposed FTA Circular 9040.1G, and consistent with the specific eligibility and priorities established in the May 2013 Notice of Funding Availability (NOFA) .

FOR FURTHER INFORMATION CONTACT: Successful applicants should contact the appropriate FTA Regional office for information regarding applying for the funds or program-specific information. A list of Regional offices, along with a list of tribal liaisons can be found at www.fta.dot.gov. Unsuccessful applicants may contact Élan Flippin, Office of Program Management at (202) 366-3800, email: Elan.Flippin@dot.gov, to arrange a proposal debriefing within 30 days of this announcement. In the event the contact information provided by your tribe in the application has changed, please contact your regional tribal liaison with the current information in order to expedite the grant award process. A TDD is available at 1-800-877-8339 (TDD/FIRS).

SUPPLEMENTARY INFORMATION: Approximately $5.05 million is available for the FY 2013 Tribal Transit program. A total of 75 applicants requested $18.1 million, indicating significant demand for funds for public transportation projects. Project proposals were evaluated based on each applicant's responsiveness to the program evaluation criteria outlined in FTA's May 2013 NOFA. The FTA also took into consideration the current status of previously funded applicants. This included evaluating available discretionary funding from prior years, the availability of formula funds, and balancing for geographic diversity. As a result, FTA is funding a total of 48 projects for 42 tribes. The projects selected as shown in Table 1 will provide funding for transit planning studies, capital and operating requests for existing, start-up, expansion and replacement services. Funds must be used for the specific purposes identified in Table 1. Allocations may be less than what the applicant requested and were capped at $300,000 to provide funding to all highly rated proposals; planning projects were capped at $25,000. Tribes selected for competitive discretionary funding should work with their FTA regional office to finalize the grant application in FTA's Transportation Electronic Awards Management System (TEAM) for the projects identified in the attached table and so that funds can be obligated expeditiously. In cases where the allocation amount is less than the proposer's requested amount, tribes should work with the regional office to ensure the funds are obligated for eligible aspects of the projects and for specific purpose intended as reflected in Table 1. A discretionary project identification number has been assigned to each project for tracking purposes and must be used in the TEAM application. The post award reporting requirements include submission of the Federal Financial Report (FFR), Milestone Report in TEAM, and National Transit Database (NTD) reporting as appropriate (see FTA Circular 9040.1G).

Tribes must continue to report to the NTD to be eligible for FY2015 formula apportionment funds. To be considered in the FY 2015 formula apportionments, tribes should submit their reports to the NTD no later than October 31, 2014; voluntary reporting to the NTD is also encouraged. For tribes who have not reported before, you will need to contact the NTD Operations Center in advance to get a reporting account for the NTD on-line data collection system. The Operation Center can be reached Monday-Friday, 8:00 a.m.-7:00 p.m. (ET), by email NTDHelp@dot.gov or by phone 1-888-252-0936.

TTP grantees must comply with all applicable Federal statutes, regulations, executive orders, FTA circulars, and other Federal requirements in carrying out the project supported by the FTA grant. To assist tribes with understanding these requirements and the recent program changes, FTA conducted three Tribal Transit Technical Assistance Workshops in FY 2013 and expects to continue similar offerings in FY 2014. FTA is also continuing to expand its technical assistance and oversight of the tribes receiving funds under this program by conducting oversight assessments. These assessments will include discussion of compliance areas pursuant to the Master Agreement, a site visit and technical assistance from FTA and its contractors. FTA plans to begin assessments in FY2015, giving tribes an opportunity to attend workshops. FTA will use these assessments as a tool to focus on areas of improvement and as an indication of the areas where technical assistance is needed.

FTA will post information about upcoming workshops to its Web site and will disseminate information about the reviews through its Regional offices. A list of Tribal Liaisons can be on FTA's Web site at http://www.fta.dot.gov/13094_15845.html.

Funds allocated in this announcement must be obligated in a grant by September 30, 2016. FTA plans to publish a NOFA soliciting proposals for FY2014 discretionary funds in late spring. The NOFA will establish and outline specific eligibility for funding.

Therese McMillan,
Deputy Administrator.

BILLING CODE 4910-57-P

[FR Doc. 2014-08477 Filed 4-14-14; 8:45 am]

BILLING CODE 4910-57-C